DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of January 29, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Ventura County, California and Incorporated Areas
Docket No.: FEMA-B-1639
City of Ojai | Ojai Public Works Department, 408 South Signal Street, Ojai, CA 93023.
City of San Buenaventura | San Buenaventura City Hall, 501 Poli Street, Ventura, CA 93001.
Unincorporated Areas of Ventura County | Ventura County Public Works Agency, 800 South Victoria Avenue, Ventura, CA 93009.
Ventura County, California and Incorporated Areas
Docket No.: FEMA-B-1673
City of Oxnard | Oxnard City Hall, 300 West Third Street, Oxnard, CA 93030.
City of Port Hueneme | Port Hueneme City Hall, 250 North Ventura Road, Port Hueneme, CA 93041.
City of San Buenaventura | San Buenaventura City Hall, 501 Poli Street, Ventura, CA 93001.
Unincorporated Areas of Ventura County | Ventura County Public Works Agency, 800 South Victoria Avenue, Ventura, CA 93009.
Brevard County, Florida and Incorporated Areas
Docket No.: FEMA-B-1849
Cape Canaveral Port Authority | Cape Canaveral Port Authority, Maritime Center, 445 Challenger Road, Suite 203A, Cape Canaveral, FL 32920.
City of Cape Canaveral | Community Development Department, 100 Polk Avenue, Cape Canaveral, FL 32920.
City of Cocoa | Building and Permitting Division, 65 Stone Street, Cocoa, FL 32922.
City of Cocoa Beach | City Hall, 2 South Orlando Avenue, Cocoa Beach, FL 32931.
City of Indian Harbour Beach | City Hall, 2055 South Patrick Drive, Indian Harbour Beach, FL 32937.
City of Melbourne | City Hall, 900 East Strawbridge Avenue, Melbourne, FL 32901.
City of Palm Bay | City Hall, 120 Malabar Road Southeast, Palm Bay, FL 32907.
City of Rockledge | Building Division, 1600 Huntington Lane, Rockledge, FL 32955.
City of Satellite Beach | Building and Zoning Department, 565 Cassia Boulevard, Satellite Beach, FL 32937.
City of Titusville | City Hall, 555 South Washington Avenue, Titusville, FL 32796.
Town of Grant-Valkaria | Town Hall, 1449 Valkaria Road, Grant-Valkaria, FL 32950.
Town of Indialantic | Town Hall, 216 5th Avenue, Indialantic, FL 32903.
Town of Malabar | Town Hall, 2725 Malabar Road, Malabar, FL 32950.
Town of Melbourne Beach | Town Hall, 507 Ocean Avenue, Melbourne Beach, FL 32951.
Town of Palm Shores | Clerk's Office, 5030 Paul Hurtt Lane, Palm Shores, FL 32940.
Unincorporated Areas of Brevard County | Brevard County Government Center, 2725 Judge Fran Jamieson Way, Building A, Room A-204, Viera, FL 32940.
Johnson County, Indiana and Incorporated Areas
Docket No.: FEMA-B-1720
City of Franklin | City Hall Planning Department, 70 East Monroe Street, Franklin, IN 46131.
City of Greenwood | City Center Planning Department, 300 South Madison Avenue, Greenwood, IN 46142.
Unincorporated Areas of Johnson County | Johnson County Courthouse Annex Building, 86 West Court Street, Franklin, IN 46131.
Vanderburgh County, Indiana and Incorporated Areas
Docket No.: FEMA-B-1828
City of Evansville | Building Commission Department, Civic Center Complex, 1 Northwest Martin Luther King Jr. Boulevard, Room 310, Evansville, IN 47708.
Unincorporated Areas of Vanderburgh County | Building Commission Department, Civic Center Complex, 1 Northwest Martin Luther King Jr. Boulevard, Room 310, Evansville, IN 47708.
Bremer County, Iowa and Incorporated Areas
Docket No.: FEMA-B-1951
City of Denver | City Hall, 100 Washington Street, Denver, IA 50622.
City of Frederika | City Hall, 111 3rd Street, Frederika, IA 50631.
City of Janesville | City Hall, 227 Main Street, Janesville, IA 50647.
City of Plainfield | City Hall, 604 Main Street, Plainfield, IA 50666.
City of Readlyn | City Hall, 128 Main Street, Readlyn, IA 50668.
City of Sumner | City Hall, 105 East 1st Street, Sumner, IA 50674.
City of Tripoli | Bremer County Building and Zoning Department, 415 East Bremer Avenue, Waverly, IA 50677.
City of Waverly | City Hall, 200 1st Street Northeast, Waverly, IA 50677.
Unincorporated Areas of Bremer County | Bremer County Building and Zoning Department, 415 East Bremer Avenue, Waverly, IA 50677.
Harrison County, Iowa and Incorporated Areas
Docket No.: FEMA-B-1925
City of Dunlap | City Hall, 716 Iowa Avenue, Dunlap, IA 51529.
City of Little Sioux | Harrison County Engineer's Building, 301 North 6th Avenue, Logan, IA 51546.
City of Logan | City Hall, 108 West 4th Street, Logan, IA 51546.
City of Missouri Valley | City Hall, 223 East Erie Street, Missouri Valley, IA 51555.
City of Modale | City Hall, 310 East Palmer Street, Modale, IA 51556.
City of Mondamin | City Hall, 120 South Main Street, Mondamin, IA 51557.
City of Persia | City Hall, 117 Main Street, Persia, IA 51563.
City of Pisgah | Harrison County Engineer's Building, 301 North 6th Avenue, Logan, IA 51546.
City of Woodbine | City Hall, 517 Walker Street, Woodbine, IA 51579.
Unincorporated Areas of Harrison County | Harrison County Engineer's Building, 301 North 6th Avenue, Logan, IA 51546.
Wapello County, Iowa and Incorporated Areas
Docket No.: FEMA-B-1945
City of Agency | Agency City Hall, 104 East Main Street, Agency, IA 52530.
City of Chillicothe | Chillicothe City Hall, 201 Main Street, Chillicothe, IA 52548.
City of Eddyville | Eddyville City Hall, 103 Front Street, Eddyville, IA 52553.
City of Eldon | Eldon City Hall, 421 West Elm Street, Eldon, IA 52554.
City of Ottumwa | Ottumwa City Hall, 105 East 3rd Street, Ottumwa, IA 52501.
Unincorporated Areas of Wapello County | Wapello County Planning, Zoning, and Building Division, 536 Mill Street, Ottumwa, IA 52501.
Reno County, Kansas and Incorporated Areas
Docket No.: FEMA-B-1925
City of Hutchinson | City Hall, 125 East Avenue B, Hutchinson, KS 67501.
City of Nickerson | City Hall, 15 North Nickerson Street, Nickerson, KS 67561.
City of South Hutchinson | City Hall, 2 South Main Street, South Hutchinson, KS 67505.
City of Willowbrook | Reno County Courthouse, 206 West 1st Avenue, Hutchinson, KS 67501.
Unincorporated Areas of Reno County | Reno County Courthouse, 206 West 1st Avenue, Hutchinson, KS 67501.
Clark County, Missouri and Incorporated Areas
Docket No.: FEMA-B-1940
City of Alexandria | City Hall, 109 Market Street, Alexandria, MO 63430.
Unincorporated Areas of Clark County | Clark County Circuit Clerk's Office, 288 East Main Street, Kahoka, MO 63445.
Rockingham County, New Hampshire (All Jurisdictions)
Docket No.: FEMA-B-1415 and B-1736
City of Portsmouth | City Hall, 1 Junkins Avenue, Portsmouth NH 03801.
Town of Exeter | Town Office, 10 Front Street, Exeter, NH 03833.
Town of Greenland | Town Office, 11 Town Square, Greenland, NH 03840.
Town of Hampton | Town Office, 100 Winnacunnet Road, Hampton, NH 03842.
Town of Hampton Falls | Town Hall, 1 Drinkwater Road, Hampton Falls, NH 03844.
Town of New Castle | Town Office, 49 Main Street, New Castle, NH 03854.
Town of Newfields | Town Hall, 65 Main Street, Newfields, NH 03856.
Town of Newington | Town Office, 205 Nimble Hill Road, Newington, NH 03801.
Town of Newmarket | Town Hall, 186 Main Street, Newmarket, NH 03857.
Town of North Hampton | Town Office, 233 Atlantic Avenue, 2nd Floor, North Hampton, NH 03862.
Town of Rye | Town Office, 10 Central Road, Rye, NH 03870.
Town of Seabrook | Town Office, 99 Lafayette Road, Seabrook, NH 03874.
Town of Stratham | Town Office, 10 Bunker Hill Avenue, Stratham, NH 03885.
Village District of Little Boar's Head | Little Boar's Head Village District Map Repository, North Hampton Town Office, 233 Atlantic Avenue, North Hampton, NH 03862.
Village District of Seabrook Beach | Seabrook Beach Village District Map Repository, Warren H. West Memorial Building, 210 Ocean Boulevard, Seabrook, NH 03874.
Charleston County, South Carolina and Incorporated Areas
Docket No.: FEMA-B-1751
City of Charleston | Engineering Department, 2 George Street, Suite 2100, Charleston, SC 29401.
City of Folly Beach | City Hall, 21 Center Street, Folly Beach, SC 29439.
City of Isle of Palms | City Hall, 1207 Palm Boulevard, Isle of Palms, SC 29451.
City of North Charleston | City Hall, 2500 City Hall Lane, North Charleston, SC 29406.
Town of Awendaw | Town Hall, 6971 Doar Road, Awendaw, SC 29429.
Town of Hollywood | Town Hall, 5150 Highway 165, Hollywood, SC 29449.
Town of James Island | Town Hall, 1122 Dills Bluff Road, James Island, SC 29412.
Town of Kiawah Island | Town Hall, 4475 Betsy Kerrison Parkway, Kiawah Island, SC 29455.
Town of McClellanville | Town Hall, 405 Pinckney Street, McClellanville, SC 29458.
Town of Meggett | Town Hall, 4776 Highway 165, Meggett, SC 29449.
Town of Mount Pleasant | Municipal Complex, 100 Ann Edwards Lane, Mount Pleasant, SC 29464.
Town of Ravenel | Town Hall, 5962 Highway 165, Suite 100, Ravenel, SC 29470.
Town of Rockville | Town of Rockville Map Repository, Rockville Presbyterian Church, 2479 Sea Island Yacht Club Road, Wadmalaw Island, SC 29487.
Town of Seabrook Island | Town Hall, 2001 Seabrook Island Road, Seabrook Island, SC 29455.
Town of Sullivan's Island | Town Hall, 2056 Middle Street, Sullivan's Island, SC 29482.
Unincorporated Areas of Charleston County | Charleston County Lonnie Hamilton, III Public Services Building, Building Inspection Services Department, 4045 Bridge View Drive, Suite 311, North Charleston, SC 29405.
Fort Bend County, Texas and Incorporated Areas
Docket Nos.: FEMA-B-1753; FEMA B-1944
City of Fulshear | City Hall, 30603 FM 1093, Fulshear, TX 77441.
City of Houston | Public Works and Engineering Department—Floodplain Management Office, 1002 Washington Avenue, 3rd Floor, Houston, TX 77002.
City of Simonton | City Hall, 35011 FM 1093, Simonton, TX 77476.
City of Weston Lakes | Weston Lakes City Hall, 8045 FM 359, Suite 200, Fulshear, TX 77441.
Unincorporated Areas of Fort Bend County | Fort Bend County Drainage District, 1124 Blume Road, Rosenberg, TX 77471.
Village of Fairchilds | Fairchilds Village Map Repository, Fairchild Volunteer Fire Department, 8715 Fairchild Road, Richmond, TX 77469.
Village of Pleak | Pleak Village Hall, 6621 FM 2218 South, Richmond, TX 77469.
Llano County, Texas and Incorporated Areas
Docket Nos.: FEMA B-1523, FEMA B-1923
City of Llano | Code Enforcement Department, 301 West Main Street, 2nd Floor, Llano, TX 78643
Unincorporated Areas of Llano County | Llano County Permitting and Emergency Management, 100 West Sandstone Street, Suite 200A, Llano, TX 78643.
Frederick County, Virginia and Incorporated Areas
Docket No.: FEMA-B-1817 and B-1955
Town of Middletown | Town Office, 7875 Church Street, Middletown, VA 22645.
Town of Stephens City | Town Office, 1033 Locust Street, Stephens City, VA 22655.
Unincorporated Areas of Frederick County | Frederick County Administration Building, 107 North Kent Street, Suite 202, Winchester, VA 22601.
Independent City of Winchester, Virginia
Docket No.: FEMA-B-1817 and B-1955
City of Winchester | Rouss City Hall, 15 North Cameron Street, Winchester, VA 22601.

[FR Doc. 2020-21305 Filed 9-25-20; 8:45 am]

BILLING CODE 9110-12-P